DEPARTMENT OF HOMELAND SECURITY

Coast Guard

[USCG-2005-20769]

Chemical Transportation Advisory Committee

AGENCY: Coast Guard, DHS.

ACTION: Notice of meeting.

SUMMARY: The Chemical Transportation Advisory Committee (CTAC) and its Hazardous Cargo Transportation Security (HCTS) Subcommittee will meet to discuss various issues relating to the marine transportation of hazardous materials in bulk. These meetings will be open to the public.

DATES: CTAC will meet on Thursday, April 21, 2005, from 9 a.m. to 3:30 p.m. The HCTS Subcommittee will meet on Wednesday, April 20, 2005, from 9 a.m. to 3:30 p.m. These meetings may close early if all business is finished. Written material and requests to make oral presentations should reach the Coast Guard on or before April 15, 2005. Requests to have a copy of your material distributed to each member of the Committee should reach the Coast Guard on or before April 15, 2005.

ADDRESSES: Both CTAC and the HCTS Subcommittee will meet at the Coast Guard Headquarters Building, 2100 2nd Street, SW., Washington DC 20593, in room 2415. Send written material and requests to make oral presentations to Commander Robert J. Hennessy, Executive Director of CTAC, Commandant (G-MSO-3), U.S. Coast Guard Headquarters, 2100 Second Street SW., Washington, DC 20593-0001 or E-mail: CTAC@comdt.uscg.mil. This notice is available on the Internet at http://dms.dot.gov.

FOR FURTHER INFORMATION CONTACT: Commander Robert J. Hennessy, Executive Director of CTAC, or Ms. Sara Ju, Assistant to the Executive Director, telephone 202-267-1217, fax 202-267-4570.

SUPPLEMENTARY INFORMATION: Notice of these meetings is given under the Federal Advisory Committee Act, 5 U.S.C. App. 2.

Agenda of HCTS Subcommittee Meeting on Wednesday, April 20, 2005

(1) Introduce Subcommittee members and attendees.

(2) Discuss new Policy Advisory Council decisions.

(3) Discuss security issues related to the National Response Center.

(4) Discuss Coast Guard Maritime Security Training Initiatives.

(5) Brief on Sensitive Security Information training initiatives.

(6) Review of draft documents governing Facility Security Plan audits.

Agenda of CTAC Meeting on Thursday, April 21, 2005

(1) Introduce Committee members and attendees.

(2) Final report presentation from the CTAC National Fire Protection Association (NFPA) 472 Subcommittee.

(3) Discussion and vote on draft chapter incorporating marine specific competencies, for hazardous material incident responders, into the NFPA 472 Standard.

(4) Status report presentation from the CTAC Hazardous Cargo Transportation Security Subcommittee.

(5) Discussion and vote on the initiative to establish a CTAC Outreach Subcommittee.

(6) Presentation by the Coast Guard's Office of Operating and Environmental Standards on the Ballast Water Management Program.

(7) Presentation on MARPOL Annex II.

(8) Presentation by the Coast Guard's Office of Investigations and Analysis on the Coast Guard Marine Casualty Analysis Program.

(9) Presentation by the Coast Guard's Office of Response on Hazardous Substance Response Plan Regulations.

(10) Update of Coast Guard Regulatory Projects.

Procedural

These meetings are open to the public. Please note that the meetings may close early if all business is finished. At the discretion of the Chair, members of the public may make oral presentations during the meetings generally limited to 5 minutes. If you would like to make an oral presentation at a meeting, please notify the Executive Director and submit written material on or before April 15, 2005. If you would like a copy of your material distributed to each member of the Committee in advance of a meeting, please submit 25 copies to the Executive Director (see ADDRESSES) no later than April 15, 2005.

Information on Services for Individuals With Disabilities

For information on facilities or services for individuals with disabilities, or to request special assistance at the meeting, telephone the Executive Director as soon as possible.

Dated: March 28, 2005.
Howard L. Hime,
Acting Director of Standards, Marine Safety, Security and Environmental Protection.

[FR Doc. 05-6726 Filed 4-5-05; 8:45 am]

BILLING CODE 4910-15-P